DEPARTMENT OF LABOR

Employment and Training Administration

[TA-W-55,820]

Thermal and Interior Vandalia Operations of Delphi Corporation, Vandalia, OH; Dismissal of Application for Reconsideration

Pursuant to 29 CFR 90.18(C) an application for administrative reconsideration was filed with the Director of the Division of Trade Adjustment Assistance for workers at Thermal and Interior, Vandalia Operations of Delphi Corporation, Vandalia, Ohio. The application contained no new substantial information which would bear importantly on the Department's determination. Therefore, dismissal of the application was issued.

TA-W-56,820; Thermal and Interior, Vandalia Operations of Delphi Corporation, Vandalia, Ohio (January 31, 2005)

Signed at Washington, DC this 1st day of March 2005.
Timothy Sullivan,
Director, Division of Trade Adjustment Assistance.

[FR Doc. E5-981 Filed 3-8-05; 8:45 am]

BILLING CODE 4510-30-P